DEPARTMENT OF HOMELAND SECURITY

U.S. Immigration and Customs Enforcement

[OMB Control Number 1653-0026]

Agency Information Collection Activities; Extension of a Currently Approved Collection: Information Relating to Beneficiary of Private Bill

AGENCY: U.S. Immigration and Customs Enforcement, Department of Homeland Security.

ACTION: 60-Day notice.

SUMMARY: In accordance with the Paperwork Reduction Act (PRA) of 1995, the Department of Homeland Security (DHS), U.S. Immigration and Customs Enforcement (ICE) will submit the following Information Collection Request (ICR) to the Office of Management and Budget (OMB) for review and clearance.

DATES: Comments are encouraged and will be accepted until June 27, 2022.

ADDRESSES: All submissions received must include the OMB Control Number 1653-0026 in the body of the correspondence, the agency name and Docket ID ICEB-2006-0015. All comments received will be posted without change to http://www.regulations.gov, including any personal information provided. Submit comments via the Federal eRulemaking Portal website at http://www.regulations.gov under e-Docket ID number ICEB-2006-0015.

FOR FURTHER INFORMATION CONTACT: If you have questions related to this revision, please contact: Ina Farka, ERO Policy Unit, (202) 732-3270, eropolicy@ice.dhs.gov. (This is not a toll-free number. Comments are not accepted via telephone message).

SUPPLEMENTARY INFORMATION:

Comment

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a Currently Approved Collection.

(2) Title of the Form/Collection: Information Relating to Beneficiary of Private Bill.

(3) Agency form number, if any, and the applicable component of the Department of Homeland Security sponsoring the collection: G-79A; U.S. Immigration and Customs Enforcement.

(4) Affected public who will be asked or required to respond, as well as a brief abstract: Primary: State, Local, or Tribal Government. This form is used by ICE to obtain information from beneficiaries and/or interested parties in Private Bill cases when requested to report by the Committee on the Judiciary.

(5) An estimate of the total number of respondents and the amount of time estimated for an average respondent to respond: 100 responses at 60 minutes (1 hour) per response.

(6) An estimate of the total public burden (in hours) associated with the collection: The total estimated annual hour burden is 100 hours.

Dated: April 21, 2022.
Scott Elmore,
PRA Clearance Officer, U.S. Immigrations and Customs Enforcement, Department of Homeland Security.

[FR Doc. 2022-08856 Filed 4-25-22; 8:45 am]

BILLING CODE 9111-28-P